ENVIRONMENTAL PROTECTION AGENCY

40 CFR Part 52

[EPA-R09-OAR-2019-0272; FRL-10002-12-Region 9]

Air Plan Approval; California; South Coast Air Quality Management District; Stationary Source Permits; Withdrawal

AGENCY: Environmental Protection Agency (EPA).

ACTION: Withdrawal of direct final rule.

SUMMARY: The Environmental Protection Agency (EPA) is withdrawing a direct final rule published on September 20, 2019 because relevant adverse comments were received. The rule pertained to EPA approval of a revision to the South Coast Air Quality Management District (SCAQMD) portion of the California State Implementation Plan (SIP). EPA will take a final action on the proposed action in a separate subsequent final rulemaking.

DATES: Effective November 14, 2019, the EPA withdraws the direct final rule published at 84 FR 49465, on September 20, 2019.

FOR FURTHER INFORMATION CONTACT: Laura Yannayon, EPA Region IX, 75 Hawthorne St., San Francisco, CA 94105. By phone: (415) 972-3534 or by email at yannayon.laura@epa.gov.

SUPPLEMENTARY INFORMATION: Throughout this document, “we,” “us,” and “our” refer to the EPA. On September 20, 2019 we published a direct final rule to approve a revision to the SCAQMD portion of the California SIP. Specifically, the revision pertains to SCAQMD Rule 1325 “Federal PM2.5 New Source Review Program.” The direct final rule was published without prior proposal because we anticipated no adverse comments. We stated in the direct final rule that if we received relevant adverse comments by October 21, 2019, we would publish a timely withdrawal in the Federal Register. We received a relevant adverse comment and accordingly are withdrawing the direct final rule. In a separate subsequent final rulemaking, we will address the comments received.

List of Subjects in 40 CFR Part 52

Environmental protection, Air pollution control, Incorporation by reference, Intergovernmental relations, Nitrogen dioxide, Ozone, Particulate matter, Reporting and recordkeeping requirements, Sulfur Oxides, Volatile organic compounds.

Authority: 42 U.S.C. 7401 et seq.

Dated: November 4, 2019.
Deborah Jordan,
Acting Regional Administrator, Region IX.

[FR Doc. 2019-24687 Filed 11-13-19; 8:45 am]

BILLING CODE 6560-50-P